ADMINISTRATIVE CONFERENCE OF THE UNITED STATES

Notice of Public Meetings of Committees of the Administrative Conference of the United States

AGENCY: Administrative Conference of the United States.

ACTION: Notice of public meetings.

SUMMARY: Notice is hereby given of three public meetings: two public meetings of the Committee on Regulation and one public meeting of the Committee on Adjudication of the Assembly of the Administrative Conference of the United States. Notice is also given of the cancellation of one public meeting of the Committee on Regulation. At these meetings, the committees will consider draft reports and recommendations.

DATES: Committee on Regulation: Wednesday April 4, 2012, from 1 p.m. to 4 p.m. and Thursday, May 3, 2012, from 1 p.m. to 4 p.m. Please note that the Committee on Regulation's meeting that was previously scheduled to take place on Wednesday, April 18 from 1 p.m. to 4 p.m. is hereby cancelled. Committee on Adjudication: Thursday April 5, 2012, from 9:30 a.m. to 12:30 p.m.

ADDRESSES: The meetings will be held at 1120 20th Street NW., Suite 706 South, Washington, DC 20036.

FOR FURTHER INFORMATION CONTACT: Reeve T. Bull (Committee on Regulation) or Funmi E. Olorunnipa (Committee on Adjudication), Designated Federal Officers, Administrative Conference of the United States, 1120 20th Street NW., Suite 706 South, Washington, DC 20036; Telephone 202-480-2080; Email rbull@acus.gov or folorunnipa@acus.gov.

SUPPLEMENTARY INFORMATION: Complete details regarding the committee meetings, the nature of the projects, how to attend (including information about remote access and obtaining special accommodations for persons with disabilities), and how to submit comments to each committee can be found on the Conference's Web site, at http://www.acus.gov. Click on “Research,” then on “Committee Meetings.”

Comments may be submitted by email to Comments@acus.gov, with the name of the appropriate committee in the subject line, or by postal mail to the appropriate committee at the address given below.

Committee on Regulation

The April 18, 2012 meeting of the Committee on Regulation, which was previously announced in the February 6, 2012 Federal Register (77 FR 5755), has been cancelled, and two additional meetings have been scheduled for April 4 and May 3, 2012. The Science in the Administrative Process project, which was scheduled to be discussed at the April 18 meeting, will be postponed, with additional meetings likely to take place in the fall of 2012. At the upcoming meetings, the Committee on Regulation will consider a report and set of draft recommendations dealing with regulatory analysis requirements. The report, authored by Curtis W. Copeland, analyzes the various regulatory analysis requirements with which agencies must comply and offers a set of recommendations for streamlining those processes. Reeve T. Bull is the Designated Federal Officer for this committee. More information can be found in the “Research” section of the Conference's Web site, at http://www.acus.gov. Click on “Research,” then on “Conference Projects,” and then on “Review of Regulatory Analysis Requirements.”

Committee on Adjudication

An additional meeting of the Committee on Adjudication has been scheduled for April 5, 2012. This meeting is in addition to the Committee's April 23, 2012 meeting, which will occur as scheduled. At the meeting, the Committee on Adjudication will discuss further a draft report on the Immigration Adjudication Project and a draft recommendation based on the consultants' report. The report, prepared by Professor Lenni B. Benson (New York Law School) and Russell Wheeler (Brookings Institution), presents the findings of a study of potential improvements to the procedures for immigration adjudication. Funmi E. Olorunnipa is the Designated Federal Officer for this committee. More information can be found in the “About” section of the Conference's Web site, at http://www.acus.gov. Click on “About,” then on “The Committees,” and then on “Committee on Adjudication.”

Dated: March 15, 2012.
David M. Pritzker,
Deputy General Counsel.

[FR Doc. 2012-6712 Filed 3-19-12; 8:45 am]

BILLING CODE 6110-01-P